DEPARTMENT OF THE INTERIOR

Minerals Management Service

Agency Information Collection Activities: Submitted for Office of Management and Budget (OMB) Review; Comment Request

AGENCY: Minerals Management Service (MMS), Interior.

ACTION: Notice of extension of an information collection (1010-0057).

SUMMARY: To comply with the Paperwork Reduction Act of 1995 (PRA), we are notifying the public that we have submitted to OMB an information collection request (ICR) to renew approval of the paperwork requirements in the regulations under 30 CFR Part 250, Subpart C, “Pollution Prevention and Control,” and related documents. This notice also provides the public a second opportunity to comment on the paperwork burden of these regulatory requirements.

DATES: Submit written comments by January 5, 2006.

ADDRESSES: You may submit comments on this information collection directly to the Office of Management and Budget (OMB), Office of Information and Regulatory Affairs, OMB, Attention: Desk Officer for the Department of the Interior via OMB e-mail: (OIRA_DOCKET@omb.eop.gov); or by fax (202) 395-6566; identify with (1010-0057).

Submit a copy of your comments to the Department of the Interior, MMS, via:

• MMS's Public Connect on-line commenting system, https://ocsconnect.mms.gov. Follow the instructions on the website for submitting comments.

• E-mail MMS at rules.comments@mms.gov. Use Information Collection Number 1010-0057 in the subject line.

• Fax: 703-787-1093. Identify with Information Collection Number 1010-0057.

• Mail or hand-carry comments to the Department of the Interior; Minerals Management Service; Attention: Rules Processing Team (RPT); 381 Elden Street, MS-4024; Herndon, Virginia 20170-4817. Please reference “Information Collection 1010-0057” in your comments.

FOR FURTHER INFORMATION CONTACT: Cheryl Blundon, Rules Processing Team, (703) 787-1600. You may also contact Cheryl Blundon to obtain a copy, at no cost, of the regulation that requires the subject collection of information.

SUPPLEMENTARY INFORMATION: Title: 30 CFR 250, Subpart C, Pollution Prevention and Control.

OMB Control Number: 1010-0057.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) states that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” Section 1334(a)(8) requires that regulations prescribed by the Secretary include provisions “for compliance with the National Ambient Air Quality Standards [NAAQS] pursuant to the Clean Air Act (42 U.S.C. 7401 et seq.), to the extent that activities authorized under this Act significantly affect the air quality of any State.” Section 1843(b) calls for “regulations requiring all materials, equipment, tools, containers, and all other items used on the Outer Continental Shelf to be properly color coded, stamped, or labeled, wherever practicable, with the owner's identification prior to actual use.”

This notice concerns the reporting and recordkeeping elements of 30 CFR Part 250, subpart C, Pollution Prevention and Control, and related Notices to Lessees and Operators that clarify and provide additional guidance on some aspects of the regulations. Responses are mandatory. No questions of a “sensitive” nature are asked. MMS will protect proprietary information according to 30 CFR 250.196, “Data and information to be made available to the public,” 30 CFR Part 252, “OCS Oil and Gas Information Program,” and the Freedom of Information Act (5 U.S.C. 552) and its implementing regulations (43 CFR part 2).

MMS OCS Regions collect information required under subpart C to ensure that there is no threat of serious, irreparable, or immediate damage to the marine environment, and to identify potential hazards to commercial fishing caused by OCS activities. We also use the information collected to ensure that operations are conducted according to all applicable regulations and permit conditions/requirements, comply with the approved emission levels to minimize air pollution of the OCS and adjacent onshore areas, and are conducted in a safe and workmanlike manner. In addition, we require daily inspection of facilities to prevent pollution and to ensure that problems observed have been corrected.

In the Gulf of Mexico OCS Region (GOMR), we require lessees/operators to periodically monitor and collect air emissions and meteorological data to satisfy Environmental Protection Agency and Clean Air Act requirements. The States and regional air quality groups use the information to perform regional air quality modeling in support of State Implementation Plans (SIPs). The GOMR plans regional modeling for emissions data in the year 2005. In preparation, affected respondents will be required to collect and report air pollutant emissions data for OCS activities in the GOMR for the year 2005. The year 2005 corresponds to a Clean Air Act requirement for States with non-attainment areas to prepare and/or update air pollutant emission inventories suitable for air quality modeling in support of the development of SIPs. Thus, the year 2005 OCS emissions inventory will be contemporary with the emissions inventory the States are required to prepare. The onshore and OCS 2005 data will be used in regional air quality modeling and emissions control decision-making. Respondents will gather OCS 2005 data during the calendar year 2005 and report in 2006.

Frequency: On occasion, monthly, or annually; and daily for pollution inspection records.

Estimated Number and Description of Respondents: Approximately 117 Federal OCS oil and gas or sulphur lessees and 17 States.

Estimated Reporting and Recordkeeping “Hour” Burden: The estimated annual “hour” burden for this information collection is a total of 196,073 hours. The following chart details the individual components and estimated hour burdens. In calculating the burdens, we assumed that respondents perform certain requirements in the normal course of their activities. We consider these to be usual and customary and took that into account in estimating the burden.

Citation 30 CFR 250 Subpart C and related NTL(s) | Reporting and recordkeeping requirement | Hour burden | Average No. annual responses | Annual burden hours
300(b)(1), (2) | Obtain approval to add petroleum-based substance to drilling mud system or approval for method of disposal of drill cuttings, sand, & other well solids, including those containing NORM | 3 | 110 lessees | 330
300(c) | Mark items that could snag or damage fishing devices | 0.5 | 110 lessees | 55
300(d) | Report items lost overboard | 1 | 110 lessees | 110
303(a) thru (d), (i), (j); 304(a), (f) | Submit, modify, or revise Exploration Plans and Development and Production Plans; submit information required under 30 CFR 250, subpart B | Burden covered under 1010-0151 |  | 0
303(k); 304(a), (g) | Collect and report air quality emissions related data (such as facility, equipment, fuel usage, and other activity information) during the calendar year 2005 for input into State and regional planning organizations modeling | 3 hrs per month × 12 months = 36 | 2,873 platforms | 103,428
303(l); 304(h) | Collect and submit meteorological data (not routinely collected) | None planned in the next 3 years |  | 0
304(a), (f) | Affected State may submit request to MMS for basic emission data from existing facilities to update State's emission inventory | 4 | 5 requests | 20
304(e)(2) | Submit compliance schedule for application of best available control technology (BACT) | 40 | 10 schedules | 400
304(e)(2) | Apply for suspension of operations | Burden covered under 1010-0114 |  | 0
304(f) | Submit information to demonstrate that exempt facility is not significantly affecting air quality of onshore area of a State | 15 | 10 submissions | 150
300-304 | General departure and alternative compliance requests not specifically covered elsewhere in subpart C regulations | 2 | 110 requests | 220
| Subtotal—Reporting |  | 3,338 | 104,713
300(d) | Record items lost overboard | 1 | 110 lessees | 110
301(a) | Inspect drilling/production facilities daily for pollution; maintain inspection/repair records 2 years | ¼ hr/day × 365 days = 91.25 | 1,000 facilities | 91,250
| Subtotal—Recordkeeping | 1,110 | 91,360 |
| Total Hour Burden | 4,448 | 196,073 |

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on June 1, 2005, we published a Federal Register notice (70 FR 31504) announcing that we would submit this ICR to OMB for approval. The notice provided the required 60-day comment period. In addition, § 250.199 provides the OMB control number for the information collection requirements imposed by the 30 CFR Part 250 regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by January 5, 2006.

Public Comment Procedures: MMS's practice is to make comments, including names and home addresses of respondents, available for public review. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Information Collection Clearance Officer: Arlene Bajusz (202) 208-7744.

Dated: August 9, 2005.
E.P. Danenberger,
Chief, Office of Offshore Regulatory Programs.

[FR Doc. E5-6898 Filed 12-5-05; 8:45 am]

BILLING CODE 4310-MR-P